DEPARTMENT OF TRANSPORTATION

Federal Aviation Administration

14 CFR Part 39

[Docket No. FAA-2005-21236; Directorate Identifier 2005-NM-011-AD]

RIN 2120-AA64

Airworthiness Directives; Boeing Model 767 Airplanes Equipped with General Electric Model CF6-80C2 Engines

AGENCY: Federal Aviation Administration (FAA), Department of Transportation (DOT).

ACTION: Notice of proposed rulemaking (NPRM).

SUMMARY: The FAA proposes to adopt a new airworthiness directive (AD) for certain Boeing Model 767 airplanes. This proposed AD would require modifying a relay installation and associated wiring of the engine cowl anti-ice system and performing a functional test of the thrust reverser system. This proposed AD would also require replacing the operational program software of certain indicating/recording systems. This proposed AD is prompted by numerous operator reports of failures of the lock flexshaft of the thrust reverser actuation system (TRAS) between the upper actuator and the TRAS lock. We are proposing this AD to prevent high power in-flight deployment of a thrust reverser, which could cause high roll force and consequent departure from controlled flight.

DATES: We must receive comments on this proposed AD by July 5, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street, SW., room PL-401, on the plaza level of the Nassif Building, Washington, DC. This docket number is FAA-2005-21236; the directorate identifier for this docket is 2005-NM-011-AD.

FOR FURTHER INFORMATION CONTACT: Sulmo Mariano, Aerospace Engineer, Propulsion Branch, ANM-140S, FAA, Seattle Aircraft Certification Office, 1601 Lind Avenue, SW., Renton, Washington 98055-4056; telephone (425) 917-6501; fax (425) 917-6590.

SUPPLEMENTARY INFORMATION:

Comments Invited

We invite you to submit any relevant written data, views, or arguments regarding this proposed AD. Send your comments to an address listed under ADDRESSES. Include “Docket No. FAA-2005-21236; Directorate Identifier 2005-NM-011-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report that operators have reported more than 140 failures of the lock flexshaft of the thrust reverser actuation system (TRAS) between the upper actuator and the TRAS lock, on certain Boeing Model 767 airplanes. Analysis showed these failures were caused by pneumatic pressure that was insufficient to decelerate the TRAS at the end of the deploy stroke. This condition, if not corrected, could result in high power in-flight deployment of a thrust reverser, which could cause high roll force and consequent departure from controlled flight.

Related Rulemaking

On April 26, 2000, we issued AD 2000-09-04, amendment 39-11712 (65 FR 25833, May 4, 2000), which is applicable to certain Boeing Model 767 series airplanes equipped with General Electric Model CF6-80C2 engines. That AD requires tests, inspections, and adjustments of the thrust reverser system and installation of a terminating modification and repetitive follow-on actions; in accordance with Boeing Service Bulletin 767-78A0081, Revision 1, dated October 9, 1997; Boeing Service Bulletin 767-78-0063, Revision 2, dated April 28, 1994; and Boeing Service Bulletin 767-78-0047, Revision 3, dated July 28, 1994.

On July 27, 2001, we issued AD 2001-16-03, amendment 39-12371 (66 FR 40880, August 6, 2001), which is applicable to certain Boeing Model 767-200, -300, -300F, and -400ER series airplanes equipped with General Electric Model CF6-80C2 engines. That AD requires various repetitive inspections and tests of certain fail-safe features of the thrust reverser control system and corrective actions if necessary; in accordance with Boeing Service Bulletin 767-78A0090, Revision 1, dated July 5, 2001, and Boeing Alert Service Bulletin 767-78A0091, Revision 1, dated July 5, 2001.

Relevant Service Information

We have reviewed Boeing Service Bulletin 767-78A0092, Revision 1, dated October 30, 2003 (for Model 767-200, -300, and -300F airplanes); and Boeing Alert Service Bulletin 767-78A0093, dated May 6, 2004 (for Model 767-400ER airplanes). The service bulletins describe procedures for modifying a relay installation and associated wiring of the engine cowl anti-ice system and for performing a functional test of the thrust reverser system.

Service Bulletin 767-78A0092 specifies prior or concurrent accomplishment of Boeing Service Bulletin 767-31-0180, dated December 5, 2002 (for Model 767-200, -300, and -300F airplanes). Service Bulletin 767-31-0180 describes procedures for replacing the operational program software (OPS) in the left and right engine indication and crew alerting system (EICAS) computers. The software update incorporates design improvements and EICAS message logic revisions.

Alert Service Bulletin 767-78A0093 specifies prior or concurrent accomplishment of Boeing Service Bulletin 767-31-0176, dated February 26, 2004 (for Model 767-400ER airplanes). Service Bulletin 767-31A-0176 describes procedures for replacing the OPS of the large format display system (LFDS). The software update incorporates problem fixes, functionality improvements, and FAA required changes.

Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously, except as discussed under “Difference Between the Proposed AD and Service Information.”

Difference Between the Proposed AD and Service Information

The effectivities stated in the service bulletins are different.

• Service Bulletin 767-78A0092 states “all CF6-80C2 powered 767-200, -300, and -300F airplanes line numbers 0001-0882” while concurrent Service Bulletin 767-31-0180 states “all 767-200, -300, and -300F airplanes line numbers 1-881.”

• Alert Service Bulletin 767-78A0093 states “all CF6-80C2 powered 767-400ER airplanes line numbers 0001-0882” while concurrent Service Bulletin 767-31-0176 states “767-400ER before Line Number 930.”

We have therefore analyzed the service bulletins and determined that the effectivity of this proposed AD should read “Boeing Model 767-200, -300, -300F, and -400ER series airplanes; certificated in any category; having line numbers 0001 through 0882 inclusive; equipped with General Electric Model CF6-80C2 engines” to ensure that all airplanes subject to the unsafe condition will be identified. The various actions in this proposed AD reflect the individual groups of airplanes within the applicability that are subject to the proposed requirements. This difference has been coordinated with Boeing.

Costs of Compliance

There are about 400 airplanes of the affected design in the worldwide fleet. This proposed AD would affect about 142 airplanes of U.S. registry. The following table provides the estimated costs for U.S. operators to comply with this proposed AD, at an average labor rate of $65 per work hour.

Estimated Costs
Action | Work hours | Parts | Cost per airplane
For Model 767-200, -300, and -300F Series Airplanes
Modify relay and wiring | 5 | $1,307-$1,390 | $1,632-$1,715
Functional test | 3 | N/A | 195
Install EICAS OPS software | 2 | N/A | 130
For Model 767-400ER Series Airplanes
Modify relay and wiring | 5 | 2,119 | 2,444
Functional test | 3 | N/A | 195
Install LFDS OPS software | 3 | N/A | 195

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-21236; Directorate Identifier 2005-NM-011-AD.

Comments Due Date

(a) The Federal Aviation Administration (FAA) must receive comments on this AD action by July 5, 2005.

Affected ADs

(b) None.

Applicability

(c) This AD applies to Boeing Model 767-200, -300, -300F, and -400ER series airplanes; certificated in any category; having line numbers 0001 through 0882 inclusive; equipped with General Electric Model CF6-80C2 engines.

Unsafe Condition

(d) This AD was prompted by numerous operator reports of failures of the lock flexshaft of the thrust reverser actuation system (TRAS) between the upper actuator and the TRAS lock. We are issuing this AD to prevent high power in-flight deployment of a thrust reverser, which could cause high roll force and consequent departure from controlled flight.

Compliance

(e) You are responsible for having the actions required by this AD performed within the compliance times specified, unless the actions have already been done.

Modification and Functional Test

(f) Within 48 months after the effective date of this AD, perform the actions required by paragraphs (f)(1) and (f)(2) of this AD in accordance with the Accomplishment Instructions of Boeing Service Bulletin 767-78A0092, Revision 1, dated October 30, 2003 (for Model 767-200, -300, and -300F series airplanes); or Boeing Alert Service Bulletin 767-78A0093, dated May 6, 2004 (for Model 767-400ER series airplanes); as applicable.

(1) Modify the relay installation and associated wiring of the engine cowl anti-ice system.

(2) Perform a functional test of the thrust reverser system.

Concurrent Service Bulletins

(g) Prior to or concurrently with the actions required by paragraphs (f)(1) and (f)(2) of this AD, perform the actions required by paragraphs (g)(1) and (g)(2) of this AD in accordance with the Accomplishment Instructions of the applicable service bulletin.

(1) For Model 767-200, -300, and -300F series airplanes: Replace the operational program software (OPS) in the left and right engine indication and crew alerting system (EICAS) computers as specified in Boeing Service Bulletin 767-31-0180, dated December 5, 2002.

(2) For Model 767-400ER airplanes: Replace the OPS of the large format display system (LFDS) as specified in Boeing Service Bulletin 767-31-0176, dated February 26, 2004.

Alternative Methods of Compliance (AMOCs)

(h) The Manager, Seattle Aircraft Certification Office (ACO), FAA, has the authority to approve AMOCs for this AD, if requested in accordance with the procedures found in 14 CFR 39.19.

Issued in Renton, Washington, on May 9, 2005.
Jeffrey E. Duven,
Acting Manager, Transport Airplane Directorate, Aircraft Certification Service.

[FR Doc. 05-9872 Filed 5-17-05; 8:45 am]

BILLING CODE 4910-13-P